DEPARTMENT OF LABOR

Mine Safety and Health Administration

Petitions for Modification

AGENCY: Mine Safety and Health Administration, Labor.

ACTION: Notice of petitions for modification of existing mandatory safety standards.

SUMMARY: Section 101(c) of the Federal Mine Safety and Health Act of 1977 and 30 CFR part 44 govern the application, processing, and disposition of petitions for modification. This notice is a summary of petitions for modification filed by the parties listed below to modify the application of existing mandatory safety standards published in Title 30 of the Code of Federal Regulations.

DATES: All comments on the petitions must be received by the Office of Standards, Regulations and Variances on or before January 4, 2010.

ADDRESSES: You may submit your comments, identified by “docket number” on the subject line, by any of the following methods:

1. Electronic Mail: Standards-Petitions@dol.gov.

2. Facsimile: 1-202-693-9441.

3. Regular Mail: MSHA, Office of Standards, Regulations and Variances, 1100 Wilson Boulevard, Room 2350, Arlington, Virginia 22209, Attention: Patricia W. Silvey, Director, Office of Standards, Regulations and Variances.

4. Hand-Delivery or Courier: MSHA, Office of Standards, Regulations and Variances, 1100 Wilson Boulevard, Room 2350, Arlington, Virginia 22209, Attention: Patricia W. Silvey, Director, Office of Standards, Regulations and Variances.

MSHA will consider only comments postmarked by the U.S. Postal Service or proof of delivery from another delivery service such as UPS or Federal Express on or before the deadline for comments. Individuals who submit comments by hand-delivery are required to check in at the receptionist desk on the 21st floor.

Individuals may inspect copies of the petitions and comments during normal business hours at the address listed above.

FOR FURTHER INFORMATION CONTACT: Barbara Barron, Office of Standards, Regulations and Variances at 202-693-9447 (Voice), barron.barbara@dol.gov (E-mail), or 202-693-9441 (Telefax). [These are not toll-free numbers].

SUPPLEMENTARY INFORMATION:

I. Background

Section 101(c) of the Federal Mine Safety and Health Act of 1977 (Mine Act) allows the mine operator or representative of miners to file a petition to modify the application of any mandatory safety standard to a coal or other mine if the Secretary determines that: (1) An alternative method of achieving the result of such standard exists which will at all times guarantee no less than the same measure of protection afforded the miners of such mine by such standard; or (2) that the application of such standard to such mine will result in a diminution of safety to the miners in such mine. In addition, the regulations at 30 CFR 44.10 and 44.11 establish the requirements and procedures for filing petitions for modification.

II. Petitions for Modification

Docket Number: M-2009-037-C.

Petitioner: The Signal Peak Energy, LLC, 100 Portal Drive, Roundup, Montana 59072.

Mine: Bull Mountain #1 Mine, MSHA I. D No. 24-01950, located in Musselshell County, Montana.

Regulation Affected: 30 CFR 75.1909(b)(6) (Nonpermissible, diesel-powered equipment; design and performance requirements).

Modification Request: The petitioner requests a modification of the existing standard to permit the use of the Getman Roadbuilder, Model RDG-1504S, with six (6) wheels, without front brakes as it was originally designed. The existing standard requires that all self-propelled non-permissible diesel-powered equipment must have service brakes that act on each wheel of the vehicle and be designed such that a failure of any single component, except the brake actuation pedal or other similar actuation device, must not result in a complete loss of service braking capability. The petitioner states that: (1) This rule does not address equipment with more than four (4) wheels, specifically the Getman Roadbuilder, Model RDG-1504S, with six (6) wheels; (2) this machine has dual brake systems on the four (4) rear wheels, and is designed to prevent loss of braking due to a single component failure; (3) seventy-four percent of the machines total weight is over the four (4) rear wheels. With this weight distribution, brakes on the rear of the machine are sufficient to safely stop the machine; (4) grader operators will be trained to lower the moldboard to provide additional stopping capability in emergency situations, to recognize the appropriate speeds to use on different roadway conditions, and to limit the maximum speed to 10 miles per hour. Maintaining this maximum speed will be accomplished through physically blocking out higher gear ratios. Other mechanical means, such as installation of smaller diameter tires, which accomplish this speed governing, may also be used when working with different roadway conditions and different slopes. This training will be documented on an approved 5000-23 form. The petitioner asserts that granting this petition will prevent the diminution of safety caused by application of the existing standard to this particular equipment, and will at all times provide an equal or superior degree of safety as that provided by the standard.

Docket Number: M-2009-038-C.

Petitioner: Shamrock Coal Company, 1374 Highway, 192 East, London, Kentucky 40741.

Mine: #18 Mine, MSHA I.D. No. 15-02502, located in Leslie County, Kentucky.

Regulation Affected: 30 CFR 75.503 (Permissible electric face equipment; maintenance).

Modification Request: The petitioner requests a modification of the existing standard to permit the maximum length of trailing cables to be increased for supplying power to the permissible pumps in the mine. The petitioner states that: (1) This petition will apply only to trailing cables supplying three-phase, 480-volt power for permissible pumps; (2) the maximum length of the 480-volt power for permissible pump will be 4,000 feet: (3) the 480-volt trailing cables supplying power to permissible pumps will not be smaller than #6 American Wire Gauge (AWG); (4) the circuit breakers used to protect trailing cables exceeding the pump approval length of Table 9 of Part 18 will have an instantaneous trip unit calibrated to trip at 75 percent of phase to phase short circuit current. The trip setting of these circuit breakers will be sealed or locked, and these circuit breakers will have permanent legible labels. Each label will identify the circuit breaker as being suitable for protecting the trailing cables, and the labels will be maintained legible. In instances where 75 percent instantaneous set point will not allow a pump to start due to motor inrush, a thermal magnetic breaker will be furnished. The thermal rating of the circuit breaker will be no greater than 75 percent of the available short circuit current and the instantaneous setting will be adjusted one setting above the motor inrush trip point. This setting will also be sealed or locked; (5) replacement instantaneous trip units used to protect pump trailing cables exceeding the length of Table 9 of Part 18 will be calibrated to trip at 75 percent of the available phase to phase short circuit current and this setting will be sealed or locked; (6) permanent warning labels will be installed and maintained on the cover(s) of the power center to identify the location of each sealed or locked short-circuit protection device. These labels will warn miners not to change or alter the short circuit settings; (7) the mines current pump circuits that have greater lengths than approved or in Table 9 are attached. All future pump installation with excessive cable lengths will have a short circuit survey conducted and items 1-6 will be implemented.

A copy of each pumps' short circuit survey will be available at the mine site for inspection; (8) the alternative method will not be implemented until miners who have been designated to examine the integrity of seals or locks, verify the short-circuit settings, and proper procedures for examining trailing cables for defects and damage have received the elements of training. The petitioner further states that: (1) Within 60 days after the Proposed Decision and Order becomes final, proposed revisions for approved 30 CFR Part 48 training plan at any of the listed mines will be submitted to the Coal Mine Safety and Health District Manager. The training plan will include: (a) Training in the mining methods and operating procedures for protecting the trailing cables against damage; (b) training in proper procedures for examining the trailing cables to ensure they are in safe operating condition; (c) training in hazards of setting the instantaneous circuit breakers too high to adequately protect the trailing cables; (d) training in how to verify that the circuit interrupting device(s) protecting the trailing cable(s) are properly set and maintained; and (e) the procedures of 30 CFR 48.3 for approval of proposed revisions to already approved training plans will apply. The petitioner asserts that the proposed alternative method will at all times guarantee no less than the same measure of protection afforded the miners at Shamrock Coal provided by the existing standard.

Docket Number: M-2009-039-C.

Petitioner: Consol Pennsylvania Coal Company, 1000 Consol Energy Drive, Canonsburg, Pennsylvania 15317.

Mine: Enlow Fork Mine, MSHA I.D. No. 36-07416, located in Washington County, Pennsylvania.

Regulation Affected: 30 CFR 75.1700 (Oil and gas wells).

Modification Request: The petitioner requests a modification of the existing standard to permit an alternative method of compliance with respect to vertical Coal Bed Methane (CBM) degasification wells with horizontal laterals into the underground coal seam. The petitioner proposes to plug vertically drilled CBM degasification wells with horizontal laterals. The petitioner proposes the following procedures: (1) Prior to the anticipated mine through, the borehole will be filled with cementatious grout, polyurethane grout, silica gel, flexible gel, or another material approved by the District Manager; (2) a packer will be installed at a location in the borehole to ensure that an appropriate amount of the borehole is filled with the plugging material, and any water present in the borehole will be tested for chlorides prior to plugging; (3) a pump will be used to pump 1.75 times the calculated borehole volume of the plugging material into the borehole. The calculated volume of the plugging material will be pumped until the volume of the plugging material is depleted, 100-140 psi pressure is realized, or until leakage is observed underground. The plugging material will be pumped through a packer equipped with a one-way check valve. The one-way check valve will prevent the plugging material from flowing back; (4) the volume of fill material required will be calculated and 1.75 times that amount will be pumped unless the 100-140 psi pressure is reached; and (5) a directional deviation survey completed during the drilling of the borehole will be used to determine the location of the borehole within the coal seam. The petitioner states that water infusion and ventilation of vertical CBM wells with horizontal laterals may be used in lieu of plugging where suitable plugging procedures have not yet been developed or are impractical. The petitioner also proposes to mine through a CBM degasification well with horizontal laterals. The District Manager or designee will be notified prior to mining within 300 feet of the well and when a specific plan is developed for mining through each well. Persons may review a complete description of the petitioner's alternative method and procedures at the MSHA address listed in this notice. The petitioner asserts that the proposed alternative method will at all times guarantee no less than the same measure of protection to all miners at the Enlow Fork Mine as would be provided by the existing standard.

Docket Number: M-2009-040-C.

Petitioner: Consol Pennsylvania Coal Company, LLC, 1000 Consol Energy Drive, Canonsburg, Pennsylvania 15317.

Mine: Bailey Mine, MSHA I.D. No. 36-07230, located in Washington County, Pennsylvania.

Regulation Affected: 30 CFR 75.1700 (Oil and gas wells).

Modification Request: The petitioner requests a modification of the existing standard to permit an alternative method of compliance with respect to vertical Coal Bed Methane (CBM) degasification wells with horizontal laterals into the underground coal seam. The petitioner proposes to plug vertically drilled CBM degasification wells with horizontal laterals. The petitioner proposes the following procedures: (1) Prior to the anticipated mine through, the borehole will be filled with cementatious grout, polyurethane grout, silica gel, flexible gel, or another material approved by the District Manager; (2) a packer will be installed at a location in the borehole to ensure that an appropriate amount of the borehole is filled with the plugging material, and any water present in the borehole will be tested for chlorides prior to plugging; (3) a pump will be used to pump 1.75 times the calculated borehole volume of the plugging material into the borehole. The calculated volume of the plugging material will be pumped until the volume of the plugging material is depleted, 100-140 psi pressure is realized, or until leakage is observed underground. The plugging material will be pumped through a packer equipped with a one-way check valve. The one-way check valve will prevent the plugging material from flowing back; (4) the volume of fill material required will be calculated and 1.75 times that amount will be pumped unless the 100-140 psi pressure is reached; and (5) a directional deviation survey completed during the drilling of the borehole will be used to determine the location of the borehole within the coal seam. The petitioner states that water infusion and ventilation of vertical CBM wells with horizontal laterals may be used in lieu of plugging where suitable plugging procedures have not yet been developed or are impractical. The petitioner also proposes to mine through a CBM degasification well with horizontal laterals. The District Manager or designee will be notified prior to mining within 300 feet of the well and when a specific plan is developed for mining through each well. Persons may review a complete description of the petitioner's alternative method and procedures at the MSHA address listed in this notice. The petitioner asserts that the proposed alternative method will at all times guarantee no less than the same measure of protection to all miners at the Bailey Mine as would be provided by the existing standard.

Docket Number: M-2009-041-C.

Petitioner: ICG Illinois, LLC, 8100 East Main Street, Williamsville, Illinois 62693.

Mine: Viper Mine, MSHA I.D. No. 11-02664, located in Sangamon County, Illinois.

Regulation Affected: 30 CFR 75.1101-1(b) (Deluge-type water spray systems).

Modification Request: The petitioner requests a modification of the existing standard to permit weekly examinations and functional testing of the deluge system to be conducted in lieu of providing blow-off dust covers. The petitioner states that: (1) Conducting the weekly examination and functional test of the deluge system will provide an improvement in safety and ensure that the nozzles do not become clogged; and (2) replacing the dust caps after such test can create an unnecessary hazard by exposing miners to the risk of a slip and fall type accident. The petitioner proposes to use the following procedures when implementing the proposed alternative method: (1) Have a person trained in the testing procedures specific to the deluge-type water spray system used at each belt drive once every 7 days will (a) conduct a visual examination of each of the deluge-type water spray fire suppression systems; (b) conduct a functional test of the deluge-type water spray fire-suppression systems by actuating the system and observing its performance; and (c) record the results of the examination and functional test in a book maintained on the surface and made available to the authorized representative of the Secretary and retained at the mine for one year: (2) any malfunction or clogged nozzle detected as a result of the weekly examination or functional test will be corrected immediately: (3) the procedures used to perform the functional test will be posted at or near each belt drive which utilizes a deluge-type water spray fire suppression system. The petitioner asserts that the proposed alternative method will result in no less protection for personnel than that afforded by the existing standard.

Dated: November 27, 2009.
Patricia W. Silvey,
Director, Office of Standards, Regulations and Variances.

[FR Doc. E9-28850 Filed 12-2-09; 8:45 am]

BILLING CODE 4510-43-P